DEPARTMENT OF ENERGY

Federal Energy Regulatory Commission

[Docket No. RM08-2-000]

Pipeline Posting Requirements Under Section 23 of the Natural Gas Act; Notice of Agenda for Technical Conference

March 25, 2008.

The staff technical conference in the above-referenced proceeding is scheduled for April 3, 2008, at the Federal Energy Regulatory Commission, 888 First Street, NE., Washington, DC 20426, in the Commission Meeting Room (2-C) from 9:30 a.m. until 3 p.m. (EST).

As directed by the Commission in the Notice of Proposed Rulemaking (NOPR),¹ the staff is holding this conference to address implementation issues associated with the pipeline posting proposal. The discussion will focus on establishing approaches to improving information available to market participants to foster a more transparent and efficient market for natural gas. Discussion at the conference will be organized around the major elements of the pipeline posting proposal: Obtaining and posting of actual flow information; obtaining and posting of scheduled flow information, and obtaining and posting of available capacity. The conference will address each element's connection with the overall purposes of the pipeline posting proposal and implementation issues related to each element for interstate pipelines, non-interstate pipelines and storage providers.

¹ Pipeline Posting Requirements under Section 23 of the Natural Gas Act, 73 FR 1116 (Jan. 7, 2008), FERC Stat. & Regs. ¶ 32,626 (2007).

As stated in the February 7, 2008 Notice of Extension of Time, comments on the NOPR were to be filed on or before March 13, 2008 and reply comments are still to be filed on or before April 14, 2008.

All interested persons are invited to attend and there is no registration fee to attend. This conference will be neither web-cast nor transcribed.

Anyone with questions about the conference or interested in speaking at the conference may send brief descriptions of the issues they would like to address to Saida.Shaalan@ferc.gov, or 202-502-8278.

Commission conferences are accessible under section 508 of the Rehabilitation Act of 1973. For accessibility accommodations please send an e-mail to: accessibility@ferc.gov or call toll free 1-866-208-3372 (voice) or 202-208-1659 (TTY), or send a FAX to 202-208-2106 with the required accommodations.

Kimberly D. Bose,
Secretary.

[FR Doc. E8-6533 Filed 3-28-08; 8:45 am]

BILLING CODE 6717-01-P